FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573, by telephone at (202) 523-5843 or by e-mail at OTI@fmc.gov.

A.W.L.I Group of Florida, Inc. (OFF), 1358 NW 78th Avenue, Miami, FL 33126. Officers:David Rosendorf, Director/President, (Qualifying Individual), Keith Milliner. Application Type: Name Change.

Crescent Line Inc. dba Globe Express Services (NVO & OFF), 535 Regal Row, Dallas, TX 75247. Officers:Gilbert Khoury, President/Secretary/Director, (Qualifying Individual), George Romanos, Vice President/Director. Application Type: Trade Name Change.

Globe Shipping Inc. (NVO), 820 S. Garfield Avenue, #202, Alhambra, CA 91801. Officers:Eric G. Qian, CEO, (Qualifying Individual), Jian Q. Sun, Secretary. Application Type: New NVO License.

Hydra Logistics, Inc. dba Globe Express Services (NVO & OFF), 14205 Westfair West Drive, Houston, TX 77041. Officers:Gilbert Khoury, President/Director, (Qualifying Individual), Jim Swann, VP/Secretary/Director. Application Type: Trade Name Change.

JSJ Express, Inc. (NVO), 140-15 Holly Avenue, Suite 201, Flushing, NY 11355. Officer:Yaokun Chen, President/VP/Secretary/Treasurer, (Qualifying Individual). Application Type: New NVO License.

Salinas International Freight Co. (OFF), 535 Regal Row, Dallas, TX 75247. Officer:Gilbert R. Khoury, President, (Qualifying Individual). Application Type: Trade Name Change.

Sealaska Global Logistics LLC (NVO & OFF), 1691 Phoenix Blvd., Suite 170, Atlanta, GA 30349.Officers:Angela Higgs, Vice President Ocean Freight, (Qualifying Individual), Wade Zammit, President/CEO. Application Type: QI Change.

Dated: January 7, 2011.
Karen V. Gregory,
Secretary.

[FR Doc. 2011-574 Filed 1-12-11; 8:45 am]

BILLING CODE 6730-01-P